DEPARTMENT OF ENERGY

Federal Energy Regulatory Commission

Combined Notice of Filings #1

Take notice that the Commission received the following exempt wholesale generator filings:

Docket Numbers: EG14-16-000.

Applicants: Fortistar North Tonawanda Inc.

Description: Self-Certification of EG or FC of Fortistar North Tonawanda Inc.

Filed Date: 12/5/13.

Accession Number: 20131205-5106.

Comments Due: 5 p.m. ET 12/26/13.

Take notice that the Commission received the following electric rate filings:

Docket Numbers: ER12-1725-003.

Applicants: Red Oak Power, LLC.

Description: Notice of Non-Material Change in Status of Red Oak Power, LLC.

Filed Date: 12/5/13.

Accession Number: 20131205-5092.

Comments Due: 5 p.m. ET 12/26/13.

Docket Numbers: ER14-374-001.

Applicants: Duke Energy Progress, Inc., Duke Energy Florida, Inc., Duke Energy Carolinas, LLC.

Description: OATT Order No. 764 Compliance filing (Amendment) to be effective 12/31/9998.

Filed Date: 12/5/13.

Comments Due: 5 p.m. ET 12/26/13.

Accession Number: 20131205-5080.

Docket Numbers: ER14-536-000.

Applicants: Smoky Mountain Transmission LLC.

Description: Normal Schedule 3 Duke to be effective 11/1/2013.

Filed Date: 12/4/13.

Accession Number: 20131204-5102.

Comments Due: 5 p.m. ET 12/26/13.

Docket Numbers: ER14-537-000.

Applicants: Duke Energy Florida, Inc.

Description: Duke Energy Florida, Inc. submits OATT Formula Transmission Rates (DEF) to be effective 2/3/2014.

Filed Date: 12/5/13.

Accession Number: 20131205-5108.

Comments Due: 5 p.m. ET 12/26/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 5, 2013.
Nathaniel J. Davis, Sr.,
Deputy Secretary.

[FR Doc. 2013-29811 Filed 12-13-13; 8:45 am]

BILLING CODE 6717-01-P